DEPARTMENT OF COMMERCE

International Trade Administration

[A-580-839, A-583-833]

Notice of Amended Final Determination of Sales at Less Than Fair Value: Certain Polyester Staple Fiber From the Republic of Korea and Antidumping Duty Orders: Certain Polyester Staple Fiber From the Republic of Korea and Taiwan

AGENCY: Import Administration, International Trade Administration, Department of Commerce.

EFFECTIVE DATE: May 25, 2000.

FOR FURTHER INFORMATION CONTACT: Craig Matney (Republic of Korea) or Cynthia Thirumalai (Taiwan), Import Administration, International Trade Administration, U.S. Department of Commerce, 14th Street and Constitution Avenue, NW, Washington, DC 20230; telephone: (202) 482-1778 or (202) 482-4087, respectively.

Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department of Commerce's (“the Department's”) regulations are to the regulations codified at 19 CFR part 351 (1998).

Scope of Orders

The product covered by these orders is certain polyester staple fiber (“PSF”). Certain polyester staple fiber is defined as synthetic staple fibers, not carded, combed or otherwise processed for spinning, of polyesters measuring 3.3 decitex (3 denier, inclusive) or more in diameter. This merchandise is cut to lengths varying from one inch (25 mm) to five inches (127 mm). The merchandise subject to these orders may be coated, usually with a silicon or other finish, or not coated. PSF is generally used as stuffing in sleeping bags, mattresses, ski jackets, comforters, cushions, pillows, and furniture. Merchandise of less than 3.3 decitex (less than 3 denier) classified under the Harmonized Tariff Schedule of the United States (“HTSUS”) at subheading 5503.20.00.20 is specifically excluded from these orders. Also specifically excluded from these orders are polyester staple fibers of 10 to 18 denier that are cut to lengths of 6 to 8 inches (fibers used in the manufacture of carpeting). In addition, low-melt PSF is excluded from these orders. Low-melt PSF is defined as a bi-component fiber with an outer sheath that melts at a significantly lower temperature than its inner core.

The merchandise subject to these orders is classified in the HTSUS at subheadings 5503.20.00.40 and 5503.20.00.60. Although the HTSUS subheadings are provided for convenience and customs purposes, the written description of these orders is dispositive.

Amended Final Determination

In accordance with section 735(a) of the Act, on March 30, 2000, the Department published the final determination of the antidumping duty investigation of certain PSF from the Republic of Korea (“Korea”), in which we determined that U.S. sales of PSF from Korea were made at less than normal value (65 FR 16880 (“Korea Final Determination”)). On March 31 and April 4, 2000, we received ministerial error allegations, timely filed pursuant to § 351.224(c)(2) of the Department's regulations, from the petitioners E.I. DuPont de Nemours, Inc.; ¹ Arteva Specialities S.a.r.l.; d/b/a KoSa; Wellman, Inc.; and Intercontinental Polymers, Inc. (hereinafter collectively referred to as “the petitioners”) regarding the calculations for Geum Poong Corporation (“Geum Poong”) and Samyang Corporation (“Samyang”), respectively. On April 5, 2000, Sam Young Synthetics Co. (“Sam Young”) and Geum Poong timely filed ministerial allegations, and Geum Poong also commented on the petitioners' allegations. On April 6, 2000, Samyang filed a rebuttal to the petitioners' ministerial error allegations. We received comments from the petitioners concerning the respondents' clerical error allegations on April 10, 2000.

¹ E.I. DuPont de Nemours, Inc. is not a petitioner in the Taiwan case.

We have determined in accordance with section 735(e) of the Act that ministerial errors were made in our final margin calculations. For a detailed discussion of the above-cited ministerial errors and the Department's analysis, see Memorandum to Richard W. Moreland, dated April 26, 2000. We are amending the final determination of the antidumping duty investigation of PSF from Korea to correct these ministerial errors. The revised final weighted-average dumping margins are as follows:

Exporter/manufacturer | Original weighted-average margin percentage | Revised weighted-average margin percentage
Samyang Corporation | 0.14 (* | 0.14 (*
Sam Young Synthetics Co. | 7.96 | 7.91
Geum Poong Corporation | 14.10 | 14.10
All Others | 11.38 | 11.35
* de minimis.

For Taiwan, we published Notice of Final Determination of Sales at Less Than Fair Value: Certain Polyester Staple Fiber from Taiwan 65 FR 16877 (March 30, 2000) and Notice of Amended Final Determination of Sales at Less Than Fair Value: Certain Polyester Staple Fiber from Taiwan 65 FR 24678 (April 27, 2000).

Antidumping Duty Orders

On May 15, 2000, in accordance with section 735(d) of the Act, the U.S. International Trade Commission (“ITC”) notified the Department that an industry in the United States is “materially injured,” within the meaning of section 735(b)(1)(A) of the Act, by reason of less-than-fair-value imports of PSF from Korea and Taiwan. In its final determination, however, the ITC determined that two domestic like products exist for merchandise covered by the Department's investigation: (1) low-melt PSF and (2) all other types of PSF not specifically excluded. The ITC determined pursuant to section 735(b)(1) that a domestic industry in the United States is not materially injured or threatened with material injury by reason of imports of low-melt PSF from Korea and Taiwan. Accordingly, the scope of these antidumping duty orders has been amended from that used in the investigations to exclude low-melt PSF.

Sam Young and Geum Poong, the two respondents included in the Korea order, did not make sales of low-melt PSF during the period of investigation. Therefore, it was not necessary to recalculate the margins to exclude sales of low-melt PSF for these Korean respondents. However, we recalculated, for purposes of the Taiwan order, the estimated dumping margins for both respondents in Taiwan by excluding sales of low-melt PSF from our analysis. The revised estimated dumping margins for Taiwan are found below.

The Department will direct the U.S. Customs Service to assess, upon further advice by the Department, antidumping duties equal to the amount by which the normal value of the subject merchandise exceeds the export price or constructed export price of the subject merchandise for all relevant entries of PSF from Korea and Taiwan, except for subject merchandise produced in Korea and imported from Samyang, which received a de minimis final margin. With respect to Korea, all bonds may be released and entries by Samyang may be liquidated without regard to antidumping duties.

For all other manufacturers/exporters from Korea, antidumping duties will be assessed on all unliquidated entries of PSF, excluding low-melt PSF, entered, or withdrawn from warehouse, for consumption on or after November 8, 1999, the date of publication of the Department's preliminary determination in the Federal Register (64 FR 60776). For all other manufacturers/exporters in Taiwan other than Nan Ya Plastics Corporation, Ltd., antidumping duties will be assessed on all unliquidated entries of PSF, excluding low-melt PSF, entered, or withdrawn from warehouse, for consumption on or after March 30, 2000, the date of publication of the Department's final determination in the Federal Register (64 FR 60771). For Nan Ya Plastics Corporation, Ltd., antidumping duties will be assessed on all unliquidated entries of PSF from Taiwan, excluding low-melt PSF, entered, or withdrawn from warehouse, for consumption on or after April 27, 2000, the date of publication of the Department's amended final determination in the Federal Register (65 FR 24678 ). Furthermore, we will instruct Customs to refund all cash deposits, or bonds posted, for entries of subject merchandise from Korea imported from Samyang Corporation and for entries of low-melt PSF from both Taiwan and Korea.

On or after the date of publication of this notice in the Federal Register, Customs officers must require, at the same time as importers would normally deposit estimated duties, cash deposits for the subject merchandise equal to the weighted-average antidumping duty margins as noted below:

Exporter/manufacturer | Revised weighted-average margin percentage
Republic of Korea
Samyang Corporation | Excluded
Sam Young Synthetics Co | 7.91
Geum Poong Corporation | 14.10
All Others | 11.35
Taiwan
Far Eastern Corporation | 11.50
Nan Ya Plastics Corporation, Ltd | 3.79
All Others | 7.31

This notice constitutes the antidumping duty orders with respect to PSF from Korea and Taiwan, pursuant to section 735(a) of the Act. Interested parties may contact the Central Records Unit, Room B-099 of the Main Commerce Building for copies of an updated list of antidumping duty orders currently in effect.

These orders are published in accordance with sections 736(a) and 19 CFR 351.211.

Dated: May 18, 2000.
Troy H. Cribb,
Acting Assistant Secretary for Import Administration.

[FR Doc. 00-13096 Filed 5-24-00; 8:45 am]

BILLING CODE 3510-DS-P